DEPARTMENT OF THE INTERIOR

National Park Service

Environmental Impact Statements; Availability

AGENCY: National Park Service, Interior.

ACTION: Notice of Availability of a Final Environmental Impact Statement for the General Management Plan Amendment (FEIS/GMPA), Elkmont Historic District, Great Smoky Mountains National Park.

SUMMARY: The National Park Service (NPS) announces the availability of the FEIS/GMPA for Elkmont in the Great Smoky Mountains National Park. This document will be available for public review pursuant to 42 U.S.C. 4332(2)(C) of the National Environmental Policy Act of 1969 and NPS policy in Director's Order Number 2 (Park Planning) and Director's Order Number 12 (Conservation Planning, Environmental Impact Analysis, and Decision-making).

The document provides a framework for management, use, and development of Elkmont by the NPS for the next 15 to 20 years. The document describes seven management alternatives, including a No-Action Alternative and the NPS's preferred alternative. The anticipated environmental impacts of those alternatives are also analyzed. Public comment on the draft plan was considered when preparing the final.

DATES: The NPS will execute a Record of Decision no sooner than 30 days following publication by the Environmental Protection Agency of this Notice of Availability in the Federal Register.

ADDRESSES: Copies of the FEIS/GMPA are available from the Superintendent, Great Smoky Mountains National Park, 107 Park Headquarters Road, Gatlinburg, Tennessee 37738; telephone: 865-436-1201. An electronic copy of the document is available on the Internet at http://parkplanning.nps.gov/.

AUTHORITY: The authority for publishing this notice is 40 CFR 1506.6.

FOR FURTHER INFORMATION CONTACT: The Superintendent, Great Smoky Mountains National Park, at the address and telephone number shown above; or Cathleen Cook, Great Smoky Mountains National Park, at 865-436-1255; or Steve Whissen, Denver Service Center, at 303-969-2380.

The responsible official for this FEIS is the Regional Director, Southeast Region, National Park Service, 100 Alabama Street, SW., 1924 Building, Atlanta, Georgia 30303.

Dated: January 2, 2009.
David Vela,
Regional Director, Southeast Region.

[FR Doc. E9-2645 Filed 2-6-09; 8:45 am]

BILLING CODE 4310-70-P